DEPARTMENT OF ENERGY

Federal Energy Regulatory Commission

[Docket No. RP98-40-030]

Panhandle Eastern Pipe Line Company; Notice of Refund Report

June 18, 2002.

Take notice that on May 20, 2002, Panhandle Eastern Pipe Line Company (PEPL) tendered for filing its 2002 Kansas Ad Valorem Tax Annual Report in the above-referenced docket pursuant to the Stipulation and Agreement (Settlement) filed with the Commission on June 22, 2001 in Docket No. RP98-40-000, et al., for which the Commission issued an Order Approving Settlement on September 13, 2001, effective October 15, 2001. On December 28, 2001, PEPL refunded to its jurisdictional customers their allocated share of the refunds of Kansas ad valorem taxes received from PEPL's producer suppliers in accordance with such Settlement. On January 25, 2002, PEPL submitted a Refund Report, with work papers and supporting documentation for the allocation of refunds to its Jurisdictional Customers. PEPL's Refund Report was accepted by the Commission on March 7, 2002.

PEPL states that Schedule 1 to its filing shows the Non-Settling First Sellers that have not provided refunds of Kansas ad valorem taxes under the Settlement. Schedule 2 shows the calculation of interest from February 1, 2001 through March 31, 2002 for each Non-Settling First Seller. Updated interest has been calculated in accordance with Section 154.501(d) of the Commission's Regulations. Schedule 3, Page 1 shows certain First Sellers refund amounts related to Missouri Public Service Commission's (MoPSC) election to opt-out with respect to discrete portions of the Settlement. One of the MoPSC opt-out related First Sellers, Dorchester Hugoton LTD., has paid its refund amount to PEPL. Due to its small size, PEPL is holding this amount pending resolution of the other Working Interest Owner refunds. Schedule 3, Page 2 reflects additional interest that has accumulated through March 31, 2002.

PEPL states that copies of its filing have been provided to all parties and respective State Regulatory Commissions.

Any person desiring to protest said filing should file a protest with the Federal Energy Regulatory Commission, 888 First Street, NE., Washington, DC 20426, in accordance with Section 385.211 of the Commission's Rules and Regulations. All such protests must be filed on or before July 9, 2002. Protests will be considered by the Commission in determining the appropriate action to be taken, but will not serve to make protestants parties to the proceedings. Copies of this filing are on file with the Commission and are available for public inspection. This filing may be viewed on the web at http://www.ferc.fed.us/online/rims.htm (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15927 Filed 6-24-02; 8:45 am]

BILLING CODE 6717-01-P